DEPARTMENT OF COMMERCE

Foreign-Trade Zones Board

[S-159-2022]

Approval of Subzone Status; Great Plains Manufacturing, Incorporated Salina, Kipp, Assaria, Abilene, Enterprise, Ellsworth, Lucas and Tipton, Kansas

On September 6, 2022, the Executive Secretary of the Foreign-Trade Zones (FTZ) Board docketed an application submitted by the Board of County Commissioners of Sedgwick County, Kansas, grantee of FTZ 161, requesting subzone status subject to the existing activation limit of FTZ 161, on behalf of Great Plains Manufacturing, Incorporated, in Salina, Kipp, Assaria, Abilene, Enterprise, Ellsworth, Lucas and Tipton, Kansas.

The application was processed in accordance with the FTZ Act and Regulations, including notice in the Federal Register inviting public comment (87 FR 55780-55781, September 12, 2022). The FTZ staff examiner reviewed the application and determined that it meets the criteria for approval.

Pursuant to the authority delegated to the FTZ Board Executive Secretary (15 CFR Sec. 400.36(f)), the application to establish Subzone 161E was approved on November 9, 2022, subject to the FTZ Act and the Board's regulations, including Section 400.13, and further subject to FTZ 161's 2,000-acre activation limit.

Dated: November 9, 2022.
Andrew McGilvray,
Executive Secretary.

[FR Doc. 2022-24912 Filed 11-15-22; 8:45 am]

BILLING CODE 3510-DS-P